DEPARTMENT OF HEALTH AND HUMAN SERVICES

National Institutes of Health

Proposed Collection; 60 Day Comment Request Conference, Meeting, Workshop, and Poster Session Registration Generic Clearance (OD)

Summary: In compliance with the requirement of Section 3506(c)(2)(A) of the Paperwork Reduction Act of 1995, for opportunity for public comment on proposed data collection projects, the National Institutes of Health (NIH), Office of the Director (OD), will publish periodic summaries of proposed projects to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact: Ms. Mikia P. Currie, Program Analyst, Office of Policy for Extramural Research Administration, 6705 Rockledge Drive, Suite 350, Bethesda, Maryland 20892, or call a non-toll-free number 301-435-0941 or Email your request, including your address to curriem@mail.nih.gov. Formal requests for additional plans and instruments must be requested in writing.

Comments Due Date: Comments regarding this information collection are best assured of having their full effect if received within 60 days of the date of this publication.

Proposed Collection: Conference, Meeting, Workshop, and Poster Session Registration Generic Clearance (OD), 0925-New, National Institutes of Health (NIH), Office of the Director (OD).

Need and Use of Information Collection: The information collections encompassed by this generic clearance will allow the NIH to select the most appropriate participants for non-grantee activities sponsored, organized, and run by the NIH staff, according to the type and purpose of the activity. For example, the NIH may develop an application process or information collection to select a limited number of researchers to participate in a poster session, identify speakers and panelists with desired expertise on a specific topic to be covered at a meeting, or determine which researchers would most likely benefit from a training course or other opportunity. For the NIH to plan and conduct activities that are timely for participants and their fields of research, it is often necessary for such information to be collected with a relatively short turnaround time. In general, submitted abstracts or other application materials will be reviewed by an internal NIH committee responsible for planning the activities. This committee will be responsible for selecting and notifying participants.

The information collected for these activities generally includes title, author(s), institution/organization, poster size, character limitations along with other requirements. This information is necessary to identify attendees as eligible for poster presentations, to present their research, speak on panels, and discuss innovative approaches to science and technology to their peers. The registration form collects information from interested parties necessary to register them for a workshop.

OMB approval is requested for 3 years. There are no costs to respondents other than their time. The total estimated annualized burden hours are 8,500.

Estimated Annualized Burden Table
Type of respondent | Number of respondents | Number of responses per respondent | Average burden (in hours) per response | Total burden hours
Individuals or Households | 2,500 | 1 | 1 | 2,500
Organizations | 2,500 | 1 | 1 | 2,500
Businesses | 2,500 | 1 | 1 | 2,500
State, territory, tribal or local governments | 1,000 | 1 | 1 | 1,000

Dated: July 23, 2015.
Lawrence A. Tabak,
Deputy Director, National Institutes of Health.

[FR Doc. 2015-18678 Filed 7-29-15; 8:45 am]

BILLING CODE 4140-01-P